DEPARTMENT OF HEALTH AND HUMAN SERVICES

Centers for Medicare & Medicaid Services

Privacy Act of 1974; Matching Program

AGENCY: Centers for Medicare & Medicaid Services (CMS), Department of Health and Human Services (HHS).

ACTION: Notice of a new matching program.

SUMMARY: In accordance with subsection (e)(12) of the Privacy Act of 1974, as amended, the Department of Health and Human Services (HHS), Centers for Medicare & Medicaid Services (CMS) is providing notice of a re-established matching program between CMS and each State Based Administering Entity (AE), titled “Determining Eligibility for Enrollment in Applicable State Health Subsidy Programs Under the Patient Protection and Affordable Care Act.”

DATES: The deadline for comments on this notice is November 14, 2018. The re-established matching program will commence not sooner than 30 days after publication of this notice, provided no comments are received that warrant a change to this notice. The matching program will be conducted for an initial term of 18 months (from approximately October 2018 to April 2020) and within 3 months of expiration may be renewed for one additional year if the parties make no changes to the matching program and certify that the program has been conducted in compliance with the matching agreement.

ADDRESSES: Written comments can be sent to: CMS Privacy Act Officer, Division of Security, Privacy Policy & Governance, Information Security & Privacy Group, Office of Information Technology, CMS, 7500 Security Blvd., Baltimore, MD 21244-1870, Mailstop: N3-15-25, or by email to: walter.stone@cms.hhs.gov. Comments received will be available for review at this location, by appointment, during regular business hours, Monday through Friday from 9:00 a.m. to 3:00 p.m.

FOR FURTHER INFORMATION CONTACT: If you have questions about the matching program, you may contact Jack Lavelle, Senior Advisor, Marketplace Eligibility and Enrollment Group, Center for Consumer Information and Insurance Oversight, CMS, 7501 Wisconsin Ave. Bethesda, MD 20814, (410) 786-0639, or by email at Jack.Lavelle1@cms.hhs.gov.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o)(2)(A)(i), (r), and (u)(3)(D).

5. Publish advance notice of the matching program in the Federal Register as required by 5 U.S.C. 552a(e)(12).

This matching program meets these requirements.

Walter Stone,
CMS Privacy Act Officer, Information Security and Privacy Group, and Office of Information Technology, Centers for Medicare & Medicaid Service.

Participating Agencies

Department of Health and Human Services (HHS), Centers for Medicare & Medicaid Services (CMS), and the AE in each state. Each is both a source and a recipient agency as explained in the Purpose(s) section below.

AEs administer insurance affordability programs, and include Medicaid/Children's Health Insurance Program (CHIP) agencies, state-based exchanges (SBEs), and basic health programs (BHPs). In states that operate a SBE, the AE would include the Medicaid/CHIP agency. Additionally, there are two states—Minnesota and New York—where the AE operates both a SBE and BHP. In states that have elected to utilize the federally-facilitated exchange (FFE), the AE would include only the Medicaid/CHIP agency.

Authority for Conducting the Matching Program

The statutory authority for the matching program is 42 U.S.C. 18001, et seq.

Purpose(s)

The matching program will enable CMS to provide information (including information CMS receives from other federal agencies under related matching agreements) to AEs, to assist AEs in verifying applicant information as required by the Affordable Care Act to determine applicants' eligibility for enrollment in applicable state health subsidy programs, including exemption from the requirement to maintain minimum essential coverage (MEC) or from the individual responsibility payment. In addition, to avoid dual enrollment, information will be shared between CMS and AEs, and among AEs, for the purpose of verifying whether applicants and enrollees are currently eligible for or enrolled in a Medicaid/CHIP program. All information will be shared through a data services hub (Hub) established by CMS to support the federally-facilitated health insurance exchange (which CMS operates) and state-based exchanges.

Categories of Individuals

The individuals whose information will be used in the matching program are consumers who apply for eligibility to enroll in applicable state health subsidy programs through an exchange established under ACA and other relevant individuals (such as, applicants' household members).

Categories of Records

The categories of records that will be used in the matching program are identifying records; minimum essential coverage period records; return information (household income and family size information); citizenship status records; birth and death information; disability coverage and income information; and imprisonment status records.

The data elements CMS will receive from AEs may include:

1. Social security number (if applicable).

2. last name.

3. first name.

4. date of birth.

The data elements the AEs will receive from CMS may include:

1. Validation of SSN.

2. verification of citizenship or immigration status.

3. incarceration status.

4. eligibility and/or enrollment in certain types of minimum essential coverage.

5. income, based on federal tax information (FTI), Title II benefits, and current income sources.

6. quarters of coverage.

7. death indicator.

System(s) of Records

The records that CMS will disclose to AEs will be disclosed from the following systems of records, as authorized by routine use 3 published in the System of Records Notices (SORNs ) cited below:

• CMS Health Insurance Exchanges System (HIX), CMS System No. 09-70-0560, last published in full at 78 FR 63211 (Oct. 23, 2013), as amended at 83 FR 6591 (Feb. 14, 2018).

[FR Doc. 2018-22405 Filed 10-12-18; 8:45 am]

BILLING CODE 4120-03-P